DEPARTMENT OF COMMERCE

National Oceanic and Atmospheric Administration

RIN 0648-XF116

Endangered Species; Permit Nos. 17861, 19641, 20314, 20340, 20347, 20351, 20528, 20548, and 20651

AGENCY: National Marine Fisheries Service (NMFS), National Oceanic and Atmospheric Administration (NOAA), Commerce.

ACTION: Notice; issuance of permits.

SUMMARY: Notice is hereby given that nine individuals or organizations have been issued permits to take Atlantic sturgeon (Acipenser oxyrinchus oxyrinchus) and shortnose sturgeon (Acipenser brevirostrum) for purposes of scientific research.

ADDRESSES: The permits and related documents are available for review upon written request or by appointment in the Permits and Conservation Division, Office of Protected Resources, NMFS, 1315 East-West Highway, Room 13705, Silver Spring, MD 20910; phone (301) 427-8401; fax (301) 713-0376.

FOR FURTHER INFORMATION CONTACT: Malcolm Mohead or Erin Markin, (301) 427-8401.

SUPPLEMENTARY INFORMATION: On January 18, 2017, a notice was published in the Federal Register [82 FR 5536] announcing nine requests for scientific research permits to take Atlantic sturgeon and shortnose sturgeon had been submitted. The requested permits have been issued under the authority of the Endangered Species Act of 1973, as amended (ESA; 16 U.S.C. 1531 et seq.) and the regulations governing the taking, importing, and exporting of endangered and threatened species (50 CFR parts 222-226). Each permit is issued to an individual permit holder or organization and its responsible party (RP), and is summarized as follows:

Permit No. 17861: Douglas Peterson (Permit Holder), University of Georgia Warnell School of Forestry, Athens, GA 30602, was issued a 10-year scientific research permit to study the ecology, population dynamics, and status of Atlantic sturgeon and shortnose sturgeon in Georgia and Florida river systems. Sturgeon of each species are authorized to be captured with nets during spring and fall and then tagged with passive integrated transponder (PIT) tags, and Floy tags, genetic tissue sampled, and measured and weighed prior to release. Subsets of fish will be acoustically tagged, gonadal sampled through endoscopic sex determination, and have blood and fin-ray samples taken. Early life stages of each species are also authorized to be collected, documenting the occurrence and periodicity of spawning in Georgia and Florida river systems.

Permit No. 19641: The Connecticut Department of Energy and Environmental Protection, Marine Fisheries, Tom Savoy (RP), P.O. Box 719, Old Lyme, CT 06371, was issued a ten-year scientific research permit to study Atlantic sturgeon and shortnose sturgeon in Connecticut waters, monitoring their presence, abundance, age and sex composition, habitat utilization, and seasonal movement. Atlantic sturgeon and shortnose sturgeon are authorized to be captured with nets and trawls, and then measured, weighed, tissue sampled, PIT tagged, Floy tagged, and photographed, prior to release. A subset of fish also will be fin ray sampled, blood sampled, acoustic tagged, and gastric lavaged.

Permit No. 20314: The U.S. Fish and Wildlife Service, Albert Spells (RP), 11110 Kimages Road, Charles City 23030, was issued a 10-year scientific research permit to study Atlantic sturgeon in the Chesapeake Bay and its Maryland, Virginia and Delaware tributaries. The research objectives are to identify the health of the Atlantic sturgeon population, monitor reproductive success, spawning adult and juvenile abundance in tributaries, and evaluate movement patterns and habitat preferences in and between tributaries of the Bay. Adult and juvenile Atlantic sturgeon are authorized to be captured with nets and trawls and then measured, genetic tissue sampled, PIT tagged, Floy tagged, photographed, and weighed and measured prior to release. A subset of fish will be acoustically tagged and have fin rays, blood and gonad tissues sampled. Early life stages will also be collected to document the occurrence and periodicity of spawning of Atlantic sturgeon in Chesapeake Bay tributaries.

Permit No. 20340: The New York State Department of Environmental Conservation, Kim McKown (RP), 205 Belle Mead Road, East Setauket, NY 11733, was issued a 10-year scientific research permit to conduct studies on Atlantic sturgeon and shortnose sturgeon in the Hudson River. Major objectives include acoustic telemetry and mark-recapture studies to determine adult and juvenile Atlantic sturgeon and shortnose sturgeon movement, population numbers, and habitat preference. Fish are authorized to be captured by gill nets in year-round sampling, and then measured, weighed, PIT tagged, genetic tissue sampled, and photographed before release. A subset of these fish will be externally and/or internally tagged, fin ray sampled for aging, gastric lavaged, gonadal biopsied, and blood sampled. Early life stages of Atlantic sturgeon and shortnose sturgeon will be collected, documenting the occurrence of spawning in the Hudson River.

Permit No. 20347: The University of Maine, School of Marine Sciences, Gayle Zydlewski (RP), 5741 Libby Hall, Room 202A, Orono, ME 04469, was issued a 10-year scientific research permit authorizing research on Atlantic sturgeon and shortnose sturgeon occurring in the Gulf of Maine (GOM) and its tributaries. Adult, and juvenile sturgeon of each species will be sampled with nets, trawls, and trotlines, annually, and then measured, weighed, PIT tagged, tissue sampled, and photographed. A subset will be acoustically tagged, apical scute and fin ray sampled for age analysis, gastric lavaged, borescoped, and blood sampled. Early life stages of both sturgeon species will be collected to document the occurrence of spawning in GOM tributaries.

Permit No. 20351: The School of Marine and Atmospheric Sciences, Stony Brook University, Michael Frisk (RP), Stony Brook, NY 11794, was issued a 10-year scientific research permit to conduct studies on Atlantic sturgeon and shortnose sturgeon, examining the movement Atlantic sturgeon marine aggregation areas located in New York, New Jersey, Delaware, and Connecticut waters. Research will also provide genetic stock identification and acquire diet, age, and parasite-prevalence data. Other objectives will target Atlantic sturgeon adult and sub-adults within the marine aggregation areas, and juvenile Atlantic and shortnose sturgeon in the Hudson and Delaware Rivers. Sturgeon are authorized to be captured with nets and trawls, then measured, weighed, PIT tagged, tissue sampled, and photographed before release. A subset of these fish will be acoustically tagged, fin ray sampled, gastric lavaged, gonadal sampled, apical scute sampled, ultrasound performed, and blood sampled. Early life stages of both sturgeon species will be collected, documenting the occurrence of spawning in the Hudson and Delaware Rivers.

Permit No. 20528: The South Carolina Department of Natural Resources, Bill Post (RP), 217 Fort Johnson Road, Charleston, SC 29412, was issued a 10-years scientific research permit to conduct studies on Atlantic sturgeon and shortnose sturgeon in South Carolina waters, determining their presence, status, health, habitat use, and movements. Atlantic sturgeon and shortnose sturgeon are authorized to be captured with nets, and then measured, weighed, PIT tagged, genetic tissue sampled, and photographed before released. A subset of these individuals will be acoustically tagged, fin ray sampled, and gonadal biopsied. Early life stages of both sturgeon species will be collected, documenting the occurrence and periodicity of spawning in South Carolina river systems.

Permit No. 20548: Dewayne Fox (Permit Holder), Delaware State University, Department of Agriculture and Natural Resources, 1200 North DuPont Highway, Dover, DE 19901, was issued a 10-year scientific research permit to study Atlantic sturgeon and shortnose sturgeon using gillnets, biotelemetry, and hydroacoustic tools in the Delaware and Hudson Rivers and estuaries, and in Atlantic coastal environments between Virginia and New York. The primary objective are developing quantitative estimates of run size, recruitment, and habitat assessment. Atlantic sturgeon and shortnose sturgeon are authorized to be captured, measured, weighed, PIT tagged, tissue sampled, and photographed. A subset of individuals will be externally and/or internally tagged, fin ray sampled, blood sampled, and gonadal biopsied. Early life stages of Atlantic sturgeon will be collected to document the occurrence of spawning in river systems.

Permit No. 20651: Entergy Indian Point, Anthony Vitale (RP), 450 Broadway, Buchanan, NY 10511, was issued a 5-year scientific research permit for conducting research on Atlantic sturgeon and shortnose sturgeon in the Hudson River and Estuary for the Hudson River Biological Monitoring Program (HRBMP), involving fisheries sampling to monitor ichthyoplankton and juvenile fish abundance and distribution from Battery Park, Manhattan, upstream to Troy Dam during March through October, and in portions of New York Harbor during November through April. Atlantic sturgeon and shortnose sturgeon are authorized to be captured with trawls and nets, and then measured, weighed, PIT tagged, tissue sampled, and photographed. Early life stages of each species will be collected to document occurrence of spawning in the Hudson River.

Issuance of these permits, as required by the ESA, was based on a finding that such permits were: (1) Applied for in good faith, (2) will not operate to the disadvantage of such endangered or threatened species, and (3) are consistent with the purposes and policies set forth in section 2 of the ESA.

Dated: April 4, 2017.
Julia Harrison,
Chief, Permits and Conservation Division, Office of Protected Resources, National Marine Fisheries Service.

[FR Doc. 2017-07000 Filed 4-6-17; 8:45 am]

BILLING CODE 3510-22-P